ENVIRONMENTAL PROTECTION AGENCY

[FRL OP-OFA-082]

Environmental Impact Statements; Notice of Availability

Responsible Agency: Office of Federal Activities, General Information 202-564-5632 or https://www.epa.gov/nepa.

Weekly receipt of Environmental Impact Statements (EIS)

Filed August 7, 2023 10 a.m. EST Through August 14, 2023 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20230102, Draft Supplement, USFS, ID, Nez Perce-Clearwater NF Travel Plan and OHV Rule Implementation, Comment Period Ends: 10/02/2023, Contact: Andrew Skowland 208-476-4541.

EIS No. 20230103, Draft, BLM, NV, Bald Mountain Mine Plan of Operations Amendment Juniper Project, Comment Period Ends: 10/05/2023, Contact: Concetta Brown 775-289-1885.

EIS No. 20230104, Draft, BLM, WY, Resource Management Plan and Environmental Impact Statement for the Rock Springs RMP Revision, Wyoming, Comment Period Ends: 11/16/2023, Contact: Kimberlee Foster 307-352-0201.

EIS No. 20230105, Draft, USFS, UT, Manti-La Sal National Forest Land and Resource Management Plan, Comment Period Ends: 11/16/2023, Contact: Autumn Ela 435-636-3517.

Dated: August 14, 2023.
Cindy S. Barger,
Director, NEPA Compliance Division, Office of Federal Activities.

[FR Doc. 2023-17809 Filed 8-17-23; 8:45 am]

BILLING CODE 6560-50-P